COMMITTEE FOR THE IMPLEMENTATION OF TEXTILE AGREEMENTS

Determination Under the African Growth and Opportunity Act

November 16, 2005.

AGENCY: Committee for the Implementation of Textile Agreements (CITA)

ACTION: Directive to the Commissioner, Bureau of Customs and Border Protection.

SUMMARY: The Committee for the Implementation of Textile Agreements (CITA) has determined that certain textile and apparel goods from Sierra Leone shall be treated as “handloomed, handmade, folklore articles, or ethnic printed fabrics” and qualify for preferential treatment under the African Growth and Opportunity Act. Imports of eligible products from Sierra Leone with an appropriate visa will qualify for duty-free treatment.

EFFECTIVE DATE: November 28, 2005

FOR FURTHER INFORMATION CONTACT: Anna Flaaten, International Trade Specialist, Office of Textiles and Apparel, U.S. Department of Commerce, (202) 482-3400.

SUPPLEMENTARY INFORMATION:

Authority: Sections 112(a) and 112(b)(6) of the African Growth and Opportunity Act (Title I of the Trade and Development Act of 2000, Pub. L. No. 106-200) (“AGOA”), as amended by Section 7(c) of the AGOA Acceleration Act of 2004 (Pub. L. 108-274) (“AGOA Acceleration Act”) (19 U.S.C. §§ 3721(a) and (b)(6)); Sections 2 and 5 of Executive Order No. 13191 of January 17, 2001; Sections 25-27 and Paras. 13-14 of Presidential Proclamation 7912 of June 29, 2005.

AGOA provides preferential tariff treatment for imports of certain textile and apparel products of beneficiary sub-Saharan African countries, including hand-loomed, handmade, or folklore articles of a beneficiary country that are certified as such by the competent authority in the beneficiary country. The AGOA Acceleration Act further expanded AGOA by adding ethnic printed fabrics to the list of textile and apparel products made in the beneficiary sub-Saharan African countries that may be eligible for the preferential treatment described in section 112(a) of the AGOA. In Executive Order 13191 (January 17, 2001) and Presidential Proclamation 7912 (June 29, 2005), the President authorized CITA to consult with beneficiary sub-Saharan African countries and to determine which, if any, particular textile and apparel goods shall be treated as being hand-loomed, handmade, folklore articles, or ethnic printed fabrics. (66 FR 7271-72 and 70 FR 37951, 37961 & 63)

In a letter to the Commissioner of Customs dated January 18, 2001, the United States Trade Representative directed Customs to require that importers provide an appropriate export visa from a beneficiary sub-Saharan African country to obtain preferential treatment under section 112(a) of the AGOA (66 FR 7837). The first digit of the visa number corresponds to one of nine groupings of textile and apparel products that are eligible for preferential tariff treatment. Grouping “9” is reserved for handmade, hand-loomed, folklore articles, or ethnic printed fabrics.

CITA has consulted with Sierra Leonean authorities and has determined that hand-loomed fabrics, hand-loomed articles (e.g., hand-loomed rugs, scarves, place mats, and tablecloths), handmade articles made from hand-loomed fabrics, and the folklore articles described in Annex A to this notice, if produced in and exported from Sierra Leone, are eligible for preferential tariff treatment under section 112(a) of the AGOA, as amended. After further consultations with Sierra Leonean authorities, CITA may determine that additional textile and apparel goods shall be treated as folklore articles or ethnic printed fabrics. In the letter published below, CITA directs the Commissioner of Customs and Border Protection to allow duty-free entry of such products under U.S. Harmonized Tariff Schedule subheading 9819.11.27 if accompanied by an appropriate AGOA visa in grouping “9”.

James C. Leonard III,
Chairman, Committee for the Implementation of Textile Agreements.

Committee for the Implementation of Textile Agreements

November 16, 2005.

Commissioner,

Bureau of Customs and Border Protection, Washington, DC 20229.

Dear Commissioner: The Committee for the Implementation of Textiles Agreements (“CITA”), pursuant to Sections 112(a) and (b)(6) of the African Growth and Opportunity Act (Title I of the Trade and Development Act of 2000, Pub. L. No. 106-200) (“AGOA”), as amended by Section 7(c) of the AGOA Acceleration Act of 2004 (Pub. L. 108-274) (“AGOA Acceleration Act”) (19 U.S.C. §§ 3721(a) and (b)(6)), Executive Order No. 13191 of January 17, 2001, and Presidential Proclamation 7912 of June 29, 2005, has determined, effective on November 28, 2005, that the following articles shall be treated as “handloomed, handmade, folklore articles, and ethnic printed fabrics” under the AGOA: (a) handloomed fabrics, handloomed articles (e.g., handloomed rugs, scarves, placemats, and tablecloths), and hand-made articles made from handloomed fabrics, if made in Sierra Leone from fabric handloomed in Sierra Leone; and (b) the folklore articles described in Annex A if made in Sierra Leone. Such articles are eligible for duty-free treatment only if entered under subheading 9819.11.27 and accompanied by a properly completed visa for product grouping “9”, in accordance with the provisions of the Visa Arrangement between the Government of Sierra Leone and the Government of the United States Concerning Textile and Apparel Articles Claiming Preferential Tariff Treatment under Section 112 of the Trade and Development Act of 2000. After further consultations with Sierra Leonean authorities, CITA may determine that additional textile and apparel goods shall be treated as folklore articles or ethnic printed fabrics.

James C. Leonard III,

Chairman, Committee for the Implementation of Textile Agreements.

Attachment

ANNEX A: Sierra Leonean Folklore Products

CITA has determined that the following textile and apparel goods shall be treated as folklore articles for purposes of the AGOA if made in Sierra Leone. Articles must be ornamented in characteristic Sierra Leonean or regional folk style. An article may not include modern features such as zippers, elastic, elasticized fabrics, snaps, or hook-and-pile fasteners (such as velcro© or similar holding fabric). An article may not incorporate patterns that are not traditional or historical to Sierra Leone, such as airplanes, buses, cowboys, or cartoon characters and may not incorporate designs referencing holidays or festivals not common to traditional Sierra Leonean culture, such as Halloween and Thanksgiving.

Eligible folklore articles:

(a) Country Cloth: Strips of handloomed fabric, hand or machine sewn together to make a larger piece of fabric, dyed with natural dyes, striped. Dimensions depend on use (blankets are usually 3 meters x 2.4 meters, or may vary to smaller sizes, and body wraps standard dimensions are 1.8 meters x 1 meter).

(b) Country Cloth Smocks: Made of country cloth described in (a), traditional sleeveless garments, may come with matching hat, round neckline with a slit down the center front. Garments typically have a center chest pocket immediately below the neckline, and side patch pockets may be present. If embroidered, it is usually around the neckline and pockets. May come with or without matching brimless cap with a flat top and cylindrical side or headwrap/scarf.

(c) Kabaslot: Primarily worn by “Creoles”, this cotton ladies' dress is a loose-fitting garment with matching scarf of colorful cotton printed fabric. The body is pleated from the imperial waistline down. Necklines may be square or be in an asymmetrical zigzag decorative pattern. Sleeves are three-quarter length, with ruffles around the cuff. The bottom of garment has a decorative ruffle sewn just above the bottom hem. Garment has side pockets. Garment may be heavily decorated with embroidery around the neckline, pockets and back shoulder.

(d) Ronko Smocks: This loose fitting garment, is made of handloomed cotton strips of fabric, and dyed with natural dyes, usually a deep brown from the kola nut. May be a solid dark color, or dark brown with geometric black patterns. The three-quarter length upper garment is sleeveless or has half to three-quarter length sleeves that are open at the bottom. The smock has a center chest pocket immediately below the neckline, and may or may not have side-seam pockets. Garment comes with matching brimless cap with a flat top and cylindrical side.

[FR Doc. 05-23105 Filed 11-21-05; 8:45 am]

BILLING CODE 3510-DS-S